DEPARTMENT OF THE TREASURY

Internal Revenue Service

26 CFR Part 1

[TD 9347]

RIN 1545-AY22

Corporate Estimated Tax; Correcting Amendment

AGENCY: Internal Revenue Service (IRS), Treasury.

ACTION: Correcting amendment.

SUMMARY: This document contains a correction to final regulations that were published in the Federal Register on Tuesday, August 7, 2007 (72 FR 44338) providing guidance to corporations with respect to estimated tax requirements.

DATES: This correction is effective September 20, 2007.

FOR FURTHER INFORMATION CONTACT: Timothy Sheppard at (202) 622-4910 (not a toll-free number).

SUPPLEMENTARY INFORMATION:

Background

The final regulations (TD 9347) that is the subject of this correction are under section 6655 of the Internal Revenue Code.

Need for Correction

As published, these regulations (TD 9347) contains an error that may prove to be misleading and is in need of clarification.

List of Subjects in 26 CFR Part 1

Income taxes, Reporting and recordkeeping requirements.

Correction of Publication

Accordingly, 26 CFR part 1 is corrected by making the following correcting amendment:

PART 1—INCOME TAXES

1. The authority citation for part 1 continues to read in part as follows:

Authority: 26 U.S.C. 7805 * * *

§ 1.6655-2 [Corrected]

2. Section § 1.6655-2(g)(2) Example. is amended by removing the language “installment period in 2008, ABC's is” and adding the language “installment period in 2008, ABC is” in its place.

LaNita Van Dyke,
Branch Chief, Publications and Regulations Branch, Legal Processing Division, Office of Associate Chief Counsel (Procedure and Administration).

[FR Doc. E7-18504 Filed 9-19-07; 8:45 am]

BILLING CODE 4830-01-P